DEPARTMENT OF HEALTH AND HUMAN SERVICES

Centers for Disease Control and Prevention

[30Day-10-09CH]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

A Controlled Evaluation of Expect Respect Support Groups (ERSG): Preventing and Interrupting Teen Dating Violence among At-Risk Middle and High School Students—New—National Center for Injury Prevention and Control (NCIPC), Division of Violence Prevention (DVP), Centers for Disease Control and Prevention (CDC).

Background and Brief Description

The prevalence and consequences of teen dating violence make it a public health concern that requires early and effective prevention. To date, only three prevention strategies—Safe Dates, the Youth Relationships Project, and 4th R—have demonstrated reductions in dating violence behaviors in rigorous, controlled evaluations, and only one of these (Safe Dates) has effectively prevented sexual violence. In order to protect young people and build the evidence for effective prevention strategies, evaluations of additional programs are needed, including those programs currently in the field. Expect Respect Support Groups (provided by Safe Place) are currently in use in the Austin Independent School District and demonstrates promising results in an uncontrolled program evaluation, which strongly suggests a controlled evaluation is warranted to more rigorously examine program effects.

The proposed study has two primary goals and two exploratory aims. The primary goals are: (1) To evaluate the effectiveness of Expect Respect Support Groups (ERSG) in preventing and reducing teen dating violence and (2) Comparing whether there is increased healthy conflict resolution skills reported by at-risk male and female middle and high school students supported by ERSG, compared to at-risk students in control schools who do not receive ERSG.

The exploratory aims are: (1) To evaluate whether or not the effectiveness of ERSG is enhanced by the presence of universal, school-wide prevention programs, and (2) To examine whether participants with different characteristics respond differently to the intervention. For example, we will determine whether outcome for boys or girls are the same.

The proposed evaluation will use a quasi-experimental/non-randomized design in which a convenience sample of participants in schools receiving universal and/or targeted prevention services are compared to students in control schools in which no dating violence prevention services are available. Based on past experience with an uncontrolled program evaluation of Expect Respect Support groups, we anticipate that in the Austin Independent School District, 800 students will undergo an Intake Assessment. From that number, 600 respondents from the intervention and control groups will be eligible for the Baseline Survey, and from that number, 400 will complete the Completion Survey.

Therefore, over three years we will recruit 1800 students (300 per year from intervention schools and 300 per year from control schools), of whom we anticipate 1200 will have complete data.

Control schools will be selected that have characteristics (e.g., risk status, socio-economic status) similar to the Austin Independent School District intervention schools.

There is no cost to respondents. The total estimated annual burden hours are 2000.

Estimated Annualized Burden Hours
Type of respondent | Form name | Number of respondents | Number of responses per respondent | Average burden per response (in hours)
Control Schools (School districts surrounding Austin Independent School District) | Intake assessment | 400 | 1 | 15/60
| Baseline Survey | 300 | 1 | 1
| Completion Survey | 200 | 1 | 1
| Follow-up Survey 1 | 200 | 1 | 1
| Follow-up Survey 2 | 200 | 1 | 1
Intervention Schools (Austin Independent School District) | Intake assessment | 400 | 1 | 15/60
| Baseline Survey | 300 | 1 | 1
| Completion Survey | 200 | 1 | 1
| Follow-up Survey 1 | 200 | 1 | 1
| Follow-up Survey 2 | 200 | 1 | 1

Dated: February 12, 2010.
Maryam I. Daneshvar,
Acting Reports Clearance Officer, Centers for Disease Control and Prevention.

[FR Doc. 2010-3825 Filed 2-24-10; 8:45 am]

BILLING CODE 4163-18-P